DEPARTMENT OF JUSTICE

Antitrust Division

Notice Pursuant to the National Cooperative Research and Production Act of 1993—Marine Well Containment Venture

Notice is hereby given that, on June 7, 2011, pursuant to Section 6(a) of the National Cooperative Research and Production Act of 1993, 15 U.S.C. 4301 et seq. (“the Act”), Marine Well Containment Venture (“MWCV”) has filed written notifications simultaneously with the Attorney General and the Federal Trade Commission disclosing changes in its membership. The notifications were filed for the purpose of extending the Act's provisions limiting the recovery of antitrust plaintiffs to actual damages under specified circumstances. Specifically, Apache Deepwater LLC, Houston, TX; Anadarko Offshore Well Containment Company LLC, The Woodlands, TX; BHP Billiton Petroleum (Deepwater) Inc., Houston, TX; Statoil Gulf of Mexico Response Company LLC, Houston, TX, and Hess Offshore Response Company LLC, Houston, TX, have been added as parties to this venture.

No other changes have been made in either the membership or planned activity of the venture. The composition of members in this venture may change, and MWCV intends to file additional written notifications disclosing all changes in membership.

On August 18, 2010, MWCV filed its original notification pursuant to Section 6(a) of the Act. The Department of Justice published a notice in the Federal Register pursuant to Section 6(b) of the Act on October 12, 2010 (75 FR 62570).

The last notification was filed with the Department on March 4, 2011. A notice was published in the Federal Register pursuant to Section 6(b) of the Act on May 11, 2011 (76 FR 27351).

Patricia A. Brink,
Director of Civil Enforcement, Antitrust Division.

[FR Doc. 2011-18024 Filed 7-19-11; 8:45 am]

BILLING CODE 4410-11-M